FEDERAL COMMUNICATIONS COMMISSION

[OMB 3060-0357; FR ID 151597]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it can further reduce the information collection burden for small business concerns with fewer than 25 employees.

DATES: Written comments and recommendations for the proposed information collection should be submitted on or before August 2, 2023.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page https://www.reginfo.gov/public/do/PRAMain, (2) look for the section of the web page called “Currently Under Review ,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control No.: 3060-0357.

Title: Recognized Private Operating Agency (RPOA), 47 CFR 63.701.

Form Number: N/A.

Type of Review: Revision of a currently approved collection.

Respondents: Business or other for-profit.

Number of Respondents: 2 respondents; 3 responses.

Estimated Time per Response: 3-6 hours.

Frequency of Response: On occasion reporting requirement.

Obligation To Respond: Required to obtain or retain benefits. The Commission has statutory authority for this collection pursuant to Sections 4(i), 4(j), 201-205, 214 and 403 of the Communications Act of 1934, as amended, 47 U.S.C. 154(j), 201-25, 214 and 403.

Total Annual Burden: 8 hours.

Annual Cost Burden: $4,810.

Needs and Uses: The Federal Communications Commission (Commission) is requesting that the Office of Management and Budget (OMB) to approve a revision to OMB Control No. 3060-0357—Recognized Private Operating Agency—47 CFR 63.701. The Commission is developing revised and new electronic forms for this collection as part of the Commission's modernization of its online, web-based electronic filing system—the International Bureau filing system (IBFS). This information collection seeks approval for the new and revised forms for requests to be designated as a Recognized Operating Agency (ROA), and reflects changes in the costs and burdens associated with these applications.

At the request of the U.S. Department of State (State Department), the Commission adopted a voluntary program by which companies that provide enhanced services could seek designation as a recognized private operating agency. The term recognized private operating agency was used in the International Telecommunication Convention, the international agreement that created the International Telecommunication Union (ITU), to refer to private-sector providers of international telecommunication services that had been “recognized” either by the government of the country in which they had been incorporated, or the country where they operated. Today, the term recognized private operating agency is interchangeable with the term recognized operating agency (ROA).

Most providers of international telecommunications services to or from the U.S. hold either an authorization under section 214 of the Communications Act or a radio license under section 301 of the Act. The issuance of such authorizations or licenses is public evidence that the U.S. government “recognizes” the entities to which they are issued. However, providers of enhanced services are not licensed or authorized. They are permitted to begin operations without any formal applications or notifications. It is not, therefore, immediately apparent to foreign governments that a U.S. enhanced service provider has been “recognized” within the meaning of the ITU Convention. As a consequence, such entities have sometimes found foreign governments unwilling to let them operate in those countries.

As a result, providers requested that the Commission and the State Department develop a program whereby enhanced service providers could be formally designated as ROAs. The program that was developed calls for those entities wishing to obtain such a designation to submit an application to the Commission setting forth pertinent information about the provider and the services it proposes to provide and a pledge by the provider that it would abide by all international obligations to which the U.S. is a signatory. The Commission places the application on public notice and allows interested parties to comment on the application.

The Commission then makes a recommendation, based on the application and comments, to the State Department either to grant or deny the request. The State Department then acts on the recommendation and notifies the ITU of any applications that it grants. ROA designation is voluntary. If an enhanced service provider does not find such designation necessary, it is not required to file an application. In order to implement this program, the Commission adopted 47 CFR 63.701 to set forth the information that must be contained in an application for designation as an ROA. ROA designations do not have expiration dates. They continue indefinitely, unless revoked for cause. ROAs are not required to file any reports or other information with the Commission throughout their indefinite period of designation. Any party requesting designation as an ROA within the meaning of the International Telecommunication Convention must file a request for such designation with the Commission. This filing includes a statement of the nature of the services to be provided and a statement that the applicant is aware that it is obligated under Article 6 of the ITU to obey the mandatory provisions thereof, and all regulations promulgated there under, and a pledge that it will engage in no conduct or operations that contravene such mandatory provisions and that it will otherwise obey the Convention and regulations in all respects. The applicant must also include a statement that it is aware that failure to comply will result in an order from the Commission to cease and desist from future violations of an ITU regulation and may result in revocation of its ROA status by the State Department.

ICFS Modernization of ROA Electronic Forms. The Commission seeks OMB approval of revisions to its ROA application forms and the addition of new forms that will be electronically filed through ICFS. The new online forms will ensure the Commission collects the information required by the Commission's rules. The use of such online forms will reduce costs and administrative burdens on applicants, resulting in greater efficiencies, and improve transparency to the public. Once the Commission receives approval for the new forms from OMB, as required by section 1.10006 of the Commission's rules, we will announce the availability of mandated e-forms and their effective dates.

Federal Communications Commission.
Marlene Dortch,
Secretary, Office of the Secretary.

[FR Doc. 2023-14011 Filed 6-30-23; 8:45 am]

BILLING CODE 6712-01-P